DEPARTMENT OF THE INTERIOR

Bureau of Land Management

[BLM_UT_FRN_MO4500169717]

Notice of Public Meetings, Utah Resource Advisory Council, Utah

AGENCY: Bureau of Land Management, Interior.

ACTION: Notice of public meetings.

SUMMARY: In accordance with the Federal Land Policy and Management Act, the Federal Advisory Committee Act, and the Federal Lands Recreation Enhancement Act, the U.S. Department of the Interior, Bureau of Land Management's (BLM) Utah Resource Advisory Council (RAC) will meet as indicated below.

DATES: The Utah RAC will hold meetings on August 15, 2023, with a field tour on August 16, 2023; and November 14, 2023, with a field tour on November 15, 2023. Each meeting will be held in person, with an option for virtual participation on the first day. All meetings will occur from 8 a.m. to 4:30 p.m. The meetings are open to the public.

ADDRESSES: The August 15 meeting will be held at the BLM Utah Green River District Office, 170 South 500 East, Vernal, UT 84078. The August 16 field tour will visit John Jarvie Historic Ranch, Browns Park, Utah. The November 14 meeting will be held at Edge of the Cedars State Park Museum, 660 West 400 North, Blanding, UT 84511. The November 15 field tour will visit Bears Ears National Monument. The agenda and in-person or virtual meeting access information will be posted on the Utah RAC web page 30 days before each meeting at https://www.blm.gov/get-involved/resource-advisory-council/near-you/utah/RAC. Participants wishing to virtually attend the meeting should register 24 hours in advance of the start time. Written comments to address the Utah RAC may be sent to the BLM Utah State Office, 440 West 200 South, Suite 500, Salt Lake City, UT 84101, or via email to BLM_UT_External_Affairs@blm.gov with the subject line “Utah RAC Meeting.”

FOR FURTHER INFORMATION CONTACT: Angela Hawkins, Public Affairs Specialist, BLM Utah State Office, 440 West 200 South, Suite 500, Salt Lake City, UT 84101; phone (435) 781-2774; or email ahawkins@blm.gov. Individuals in the United States who are deaf, deafblind, hard of hearing, or have a speech disability may dial 711 (TTY, TDD, or TeleBraille) to access telecommunications relay services. Individuals outside the United States should use the relay services offered within their country to make international calls to the point-of-contact in the United States. Please contact us for reasonable accommodations to participate.

SUPPLEMENTARY INFORMATION: The Utah RAC provides recommendations to the Secretary of the Interior, through the BLM, on a variety of public lands issues. Agenda topics for the August meeting include updates and overview of BLM district and state planning efforts, and other issues as appropriate. Agenda topics for the November meeting include updates and overview of BLM district and statewide planning efforts and other issues as appropriate. The August 16 field tour will commence at 8 a.m. Field tour participants will meet at the BLM Utah Green River District Office. The November 15 field tour will commence at 8 a.m. Field tour participants will meet at the Edge of the Cedars State Park Museum. Members of the public are welcome on field tours but must provide their own transportation and meals. Individuals who plan to attend the field tour must RSVP at least one week in advance of the field tour with the person listed in the FOR FURTHER INFORMATION CONTACT section of this notice. Additional details about the field tour will be posted to the Utah RAC web page at least two weeks prior to the tour date. A 30-minute public comment period will be from 3 p.m. to 3:30 p.m. on August 15 and November 14. Depending on the number of people wishing to comment, the amount of time for individual oral comments may be limited. Written comments may also be submitted to the BLM Utah State Office at the address listed in the ADDRESSES section of this notice. All comments received will be provided to the Utah RAC members.

Public Disclosure of Comments:

Before including your address, phone number, email address, or other personal identifying information in your comment, be aware that your entire comment—including your personal identifying information—may be made publicly available at any time. While you can ask us in your comment to withhold your personal identifying information from public review, we cannot guarantee that we will be able to do so.

Detailed minutes for the Utah RAC meeting will be maintained in the BLM Utah State Office and will be available for public inspection and reproduction during regular business hours within 90 days following the meeting. Minutes will also be posted to the Utah RAC web page.

Meeting Accessibility/Special Accommodations: Please make requests in advance for sign language interpreter services, assistive listening devices, or other reasonable accommodations. We ask that you contact the person listed in the (see FOR FURTHER INFORMATION CONTACT) section of this notice at least 7 business days prior to the meeting to give the Department of the Interior sufficient time to process your request. All reasonable accommodation requests are managed on a case-by-case basis.

(Authority: 43 CFR 1784.4-2.)

Lance C. Porter,
Acting State Director.

[FR Doc. 2023-07595 Filed 4-10-23; 8:45 am]

BILLING CODE 4331-25-P